DEPARTMENT OF COMMERCE

National Oceanic and Atmospheric Administration

[I.D. 053101G]

Marine Mammals; File No. 756-1630

AGENCY: National Marine Fisheries Service (NMFS), National Oceanic and Atmospheric Administration (NOAA), Commerce.

ACTION: Receipt of application.

SUMMARY: Notice is hereby given that Dan Tapster, BBC Natural History Unit, Broadcasting House, Whiteladies Road, Bristol, BS8 2LR, United Kingdom, has applied in due form for a permit to take bottlenose dolphins (Tursiops truncatus) for purposes of commercial/educational photography.

DATES: Written or telefaxed comments must be received on or before July 6, 2001.

ADDRESSES: The application and related documents are available for review upon written request or by appointment in the following office(s):

Permits and Documentation Division, Office of Protected Resources, NMFS, 1315 East-West Highway, Room 13705, Silver Spring, MD 20910; phone (301) 713-2289; fax (301) 713-0376; and

Southeast Region, NMFS, 9721 Executive Center Drive North, St. Petersburg, FL 33702-2432; phone (727) 570-5301; fax (727) 570-5320.

FOR FURTHER INFORMATION CONTACT: Lynne Barre or Jill Lewandowski, (301) 713-2289.

SUPPLEMENTARY INFORMATION: The subject permit is requested under the authority of the Marine Mammal Protection Act of 1972, as amended (MMPA; 16 U.S.C. 1361 et seq.) and the Regulations Governing the Taking and Importing of Marine Mammals (50 CFR part 216). Section 104 (c)(6) of the MMPA provides for photography permits for educational or commercial purposes involving non-endangered and non-threatened marine mammals in the wild. NMFS is currently working on proposed regulations to implement this provision. However, in the meantime, NMFS has received and is processing this request as a “pilot” application for Level B Harassment of non-listed marine mammals for photographic purposes.

The applicant proposes to film up to 200 bottlenose dolphins feeding on the mud banks of Hilton Head, South Carolina for Sir David Attenborough's series, The Life of Mammals, which will air on the BBC in the United Kingdom and on The Discovery Channel in the United States. Filming will take place for approximately 17 days during the month of October, 2001.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: May 31, 2001.
Ann D. Terbush,
Chief, Permits and Documentation Division, Office of Protected Resources, National Marine Fisheries Service.

[FR Doc. 01-14281 Filed 6-5-01; 8:45 am]

BILLING CODE 3510-22-S